NATIONAL AERONAUTICS AND SPACE ADMINISTRATION

[Notice (09-069)]

Review of U.S. Human Space Flight Plans Committee; Meeting

AGENCY: National Aeronautics and Space Administration.

ACTION: Notice of Meeting.

SUMMARY: In accordance with the Federal Advisory Committee Act, Public Law 92-463, as amended, the National Aeronautics and Space Administration announces a meeting of the Review of U.S. Human Space Flight Plans Committee.

DATES: Wednesday, August 12, 2009, 1 p.m.-5 p.m.

ADDRESSES: Ronald Reagan Building and International Trade Center Amphitheater, 1300 Pennsylvania Avenue, NW., Washington, DC 20004.

FOR FURTHER INFORMATION CONTACT: Mr. Philip R. McAlister, Office of Program Analysis and Evaluation, National Aeronautics and Space Administration, Washington, DC 20546. Phone 202-358-0712.

SUPPLEMENTARY INFORMATION: The meeting will be open to the public up to the seating capacity of the room. It is imperative that the meeting be held on this date to accommodate the scheduling priorities of the key participants.

The agenda topics for the meeting include:

• Committee Deliberations

○ Discussion of Final Options

○ Discussion of Final Report

○ Close-out Activities

P. Diane Rausch,
Advisory Committee Management Officer, National Aeronautics and Space Administration.

[FR Doc. E9-17979 Filed 7-27-09; 8:45 am]

BILLING CODE 7510-13-P